DEPARTMENT OF TRANSPORTATION

Federal Aviation Administration

Notice of Opportunity for Public Comment on Future Surplus Property Release at Andalusia-Opp Airport, Covington County, AL

AGENCY: Federal Aviation Administration (FAA), DOT.

ACTION: Notice of intent to rule on land release request.

SUMMARY: Under the provisions of title 49 U.S.C. 47153(c), notice is being given that the FAA is considering a request from the Andalusia-Opp Airport Authority to release for future sale to commercial and industrial users one parcel totaling 3.78 acres of surplus property located at the Andalusia-Opp Airport.

DATES: Comments must be received on or before October 18, 2004.

ADDRESSES: Comments on this notice may be mailed or delivered in triplicate to the FAA at the following address: Jackson Airports District Office, 100 West Cross Street, Suite B, Jackson, MS 39208-2307.

In addition, one copy of any comments submitted to the FAA must be mailed or delivered to Mr. Sam Benton, Chairman of Andalusia-Opp Airport Authority, Alabama, at the following address: 21861 Bill Benton Lane, Andalusia, AL 36421.

FOR FURTHER INFORMATION CONTACT: William Schuller, Program Manager, Jackson Airports District Office, 100 West Cross Street, Suite B, Jackson, MS 39208-2307, (601) 664-9883. The land release request may be reviewed in person at this same location.

SUPPLEMENTARY INFORMATION: The FAA is reviewing a request by the Andalusia-Opp Airport Authority, AL, to allow release of a lot containing 3.78 acres of surplus property at the Andalusia-Opp Airport. The property will be sold in whole to the current commercial tenant for fair market value. The current tenant executed a lease with option to buy for this lot in 1996. The tenant is seeking to exercise the purchase option contained in the 1996 lease. The property is located in the industrial park. The net proceeds from the sale of the property will be used for airport projects approved by the FAA.

Any person may inspect the request in person at the FAA office listed above under FOR FURTHER INFORMATION CONTACT. In addition, any person may, upon request, inspect the request, notice and other documents germane to the request in person at the offices of the Andalusia-Opp Airport Authority, Andalusia, Alabama.

Issued in Jackson, Mississippi, on September 10, 2004.
Rans D. Black,
Manager, Jackson Airports District Office, Southern Region.

[FR Doc. 04-20919 Filed 9-16-04; 8:45 am]

BILLING CODE 4910-13-M